FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012380-007.

Agreement Name: Wallenius Wilhelmsen Ocean AS/Liberty Global Logistics LLC Space Charter Agreement.

Parties: Wallenius Wilhelmsen Ocean AS and Liberty Global Logistics LLC.

Filing Party: Wayne Rohde; Cozen O'Connor.

Synopsis: The amendment changes the name of the Wallenius Wilhelmsen entity that is party to the Agreement, corrects its address, and restates the Agreement.

Proposed Effective Date: 9/22/2019.

Location: https://www2.fmc.gov/FMC.Agreements.Web/Public/AgreementHistory/79.

Agreement No.: 010050-022.

Agreement Name: U.S. Flag Discussion Agreement.

Parties: American President Lines, LLC; APL Co. Pte. Ltd.; Hapag-Lloyd AG; and Hapag-Lloyd USA, LLC.

Filing Party: Wayne Rohde; Cozen O'Connor.

Synopsis: The amendment deletes Maersk Line A/S as a party to the Agreement.

Proposed Effective Date: 8/8/2019.

Location: https://www2.fmc.gov/FMC.Agreements.Web/Public/AgreementHistory/99.

Dated: August 9, 2019.
Rachel Dickon,
Secretary.

[FR Doc. 2019-17464 Filed 8-13-19; 8:45 am]

BILLING CODE 6731-AA-P